NUCLEAR REGULATORY COMMISSION

[NRC-2019-0163]

Use of Listserv for Low-Level Waste Program Correspondence

AGENCY: Nuclear Regulatory Commission.

ACTION: Implementation of electronic distribution of low-level waste program correspondence.

SUMMARY: The U.S. Nuclear Regulatory Commission (NRC) is issuing this document to inform the public that, as of August 15, 2019, publicly-available low-level waste program correspondence originating from the Division of Decommissioning, Uranium Recovery, and Waste Programs (DUWP) in the Office of Nuclear Material Safety and Safeguards (NMSS) will be transmitted by a computer-based email distribution system Listserv to addressees and subscribers. This change does not affect the availability of official agency records in the NRC's Agencywide Documents Access and Management System (ADAMS).

DATES: This initiative will be implemented on August 15, 2019.

ADDRESSES: Please refer to Docket ID NRC-2019-0163 when contacting the NRC about the availability of information regarding this document. You may obtain publicly-available information related to this document using any of the following methods:

• Federal Rulemaking website: Go to https://www.regulations.gov and search for Docket ID NRC-2019-0163. Address questions about NRC docket IDs in Regulations.gov to Jennifer Borges; telephone: 301-287-9127; email: Jennifer.Borges@nrc.gov.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

FOR FURTHER INFORMATION CONTACT: Melanie Wong, telephone: 301-415-2432; email: Melanie.Wong@nrc.gov or Stephen Dembek, telephone: 301-415-2342; email: Stephen.Dembek@nrc.gov. Both are staff of the Office of Nuclear Material Safety and Safeguards, U.S. Nuclear Regulatory Commission, Washington, DC 20555-0001.

SUPPLEMENTARY INFORMATION: The DUWP currently already uses Listserv to distribute correspondence for Waste Incidental to Reprocessing (WIR) Program Documents (82 FR 33160; July 19, 2017) as well as reactors in decommissioning (83 FR 49434; October 1, 2018). Public feedback regarding this process has been positive, as it allows for other stakeholders to be notified of and receive NRC's correspondence to addressees in a timely manner. Distribution of documents containing safeguards, proprietary or security-related information, or other information that is withheld from public disclosure will not be affected by this initiative.

This initiative of establishing a Low-Level Waste Program ListServ will be implemented on August 15, 2019. For those members of the public who are currently on the NRC low-level waste program email list and are already receiving NRC emails with links to publicly-available low-level waste program documents, your email addresses have already been transferred to the Low-Level Waste Program ListServ. You will continue to receive NRC correspondences via email in the future and do not need to take further action.

If any other members of the public would like to start receiving NRC emails with a link to future publicly-available low-level waste program documents, please sign-up for the ListServ using the following steps: (1) Go to the NRC's public website and select “Public Meetings & Involvement,” (2) select “Subscribe to Email Updates,” (3) select “Lyris Subscription Services” and check the box for “LLW Distribution,” (4) enter the email address through which you want to receive the NRC Listserv emails, and (5) click on “Subscribe.”

Once subscribed, you will receive an email from the NRC with instructions for managing your NRC Listserv subscription, including how to change email addresses and how to unsubscribe.

Dated at Rockville, Maryland, this 8th day of August, 2019.
For the Nuclear Regulatory Commission.
Bo M. Pham,
Deputy Director, Division of Decommissioning, Uranium Recovery, and Waste Programs, Office of Nuclear Material Safety and Safeguards.

[FR Doc. 2019-17370 Filed 8-13-19; 8:45 am]

BILLING CODE 7590-01-P